DEPARTMENT OF AGRICULTURE

Forest Service

Notice of New Fee Site; Federal Lands Recreation Enhancement Act, (Title VIII, Pub. L. 108-447)

AGENCY: Lolo National Forest, USDA Forest Service.

ACTION: Notice of new fee site.

SUMMARY: The Lolo National Forest will begin charging a $60 fee for the overnight rental of Monture Cabin. Rentals of other cabins on the Lolo National Forest have shown that publics appreciate and enjoy the availability of historic rental cabins. Funds from the rental will be used for the continued operation and maintenance of Monture Cabin.

DATES: Monture Cabin will become available for rent January 1, 2006.

ADDRESSES: Forest Supervisor, Lolo National Forest, Building 24, Fort Missoula, Missoula, MT 59804.

FOR FURTHER INFORMATION CONTACT: Jim Blackburn, Recreation Coordinator, 406-677-3924.

SUPPLEMENTARY INFORMATION: The Lolo National Forest currently has other cabin rentals. These rentals are often fully booked throughout their rental season. A business analysis of Monture Cabin has shown that people desire to have this sort of recreation experience on the Lolo National Forest. A market analysis indicates that the $60/per night fee is both reasonable and acceptable for this sort of unique recreation experience.

People wanting to rent Monture Cabin will need to do so through the National Recreation Reservation Service, at http://www.reserveusa.com or by calling 1-877-444-6777. The National Recreation Reservation Service charges a $9 fee for reservations.

Dated: January 3, 2006.
Deborah L.R. Austin,
Lolo National Forest Supervisor.

[FR Doc. 06-227 Filed 1-10-06; 8:45 am]

BILLING CODE 3410-11-M